DEPARTMENT OF JUSTICE

Notice of Lodging of Proposed Consent Decree Under the Clean Air Act

On September 29, 2016, the Department of Justice lodged a proposed Consent Decree with the United States District Court for the Western District of Pennsylvania, Erie Docket, in the lawsuit entitled United States v. Erie Coke Corporation, Case No. 1:16-cv-238.

The Consent Decree resolves the claims of the United States set forth in the complaint against Erie Coke Corporation for injunctive relief and civil penalties in connection with the company's coke by-product recovery plant located in Erie, Pennsylvania, pursuant to Section 113 of the Clean Air Act (“CAA”), 42 U.S.C. 7413. Under the proposed Consent Decree, Erie Coke would perform injunctive relief to inventory, monitor, and control benzene emissions. It will also pay a civil penalty of $500,000.

The publication of this notice opens a period for public comment on the Consent Decree. Comments should be addressed to the Assistant Attorney General, Environment and Natural Resources Division, and should refer to United States v. Erie Coke Corporation, D.J. Ref. No. 90-5-2-1-09614/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $17.25 (25 cents per page reproduction cost) payable to the United States Treasury. For a paper copy without the appendices and signature pages, the cost is $15.75.

Robert Brook,
Assistant Section Chief, Environmental Enforcement Section, Environment and Natural Resources Division

[FR Doc. 2016-24111 Filed 10-4-16; 8:45 am]

BILLING CODE 4410-15-P